DEPARTMENT OF THE TREASURY

Submission for OMB Review; Comment Request

December 27, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 5, 2001 to be assured of consideration.

Financial Management Service (FMS)

OMB Number: 1510-0019.

Form Number: FMS 1133.

Type of Review: Extension.

Title: Claim Against the United States for the Proceeds of a Government Check.

Description: If a payee claims non-receipt of a Treasury check, the FMS-1133 claims form and a copy of the negotiated check are sent to the payee. If the payee wishes to submit a claim of nonreceipt, he or she answers the questions on the form, signs the form and returns it to the Financial Management Service for adjudication by a claims analyst. This may result in the issuance of a replacement check if the claim is valid.

Respondents: Individuals or households.

Estimated Number of Respondents: 53,895.

Estimated Burden Hours Per Respondent: 11 minutes.

Frequency of Response: Other (as needed).

Estimated Total Reporting Burden: 10,229 hours.

Clearance Officer: Juanita Holder, Financial Management Service, 3700 East West Highway, Room 144, PGP II, Hyattsville, MD 20782.

OMB Reviewer: Alexander T. Hunt, (202) 395-7860, Office of Management and Budget, Room 10202, New Executive Office Building, Washington, DC 20503.

Lois K. Holland,
Departmental Reports Management Officer.

[FR Doc. 01-147 Filed 1-3-01; 8:45 am]

BILLING CODE 4810-35-P